DEPARTMENT OF COMMERCE

National Oceanic and Atmospheric Administration

50 CFR Parts 679

RIN 0648-BM69

Fisheries of the Exclusive Economic Zone off Alaska; Amendment 113 to the Fishery Management Plan for the Groundfish of the Gulf of Alaska; Central Gulf of Alaska Rockfish Program Adjustments

AGENCY: National Marine Fisheries Service (NMFS), National Oceanic and Atmospheric Administration (NOAA), Commerce.

ACTION: Notice of availability of fishery management plan amendment; request for comments.

SUMMARY: The North Pacific Fishery Management Council (Council) submitted to the Secretary of Commerce for review, Amendment 113 to the Fishery Management Plan (FMP) for the Groundfish of the Gulf of Alaska (GOA). If approved, Amendment 113 would modify specific provisions of the Central Gulf of Alaska (CGOA) Rockfish Program (RP) to change the season start date, remove the catcher vessel (CV) cooperative holding cap, and revise the processing and harvesting caps implemented in the RP. This action is necessary to provide increased flexibility and efficiency, and better ensure the rockfish species total allowable catch (TAC) is fully harvested and landed in Kodiak while still maintaining the intent of the RP. Amendment 113 is intended to promote the goals and objectives of the Magnuson-Stevens Fishery Conservation and Management Act (Magnuson-Stevens Act), the FMP, and other applicable laws.

DATES: Comments must be received no later than June 3, 2024.

ADDRESSES: You may submit comments on this document, identified by NOAA-NMFS-2023-0149 by any of the following methods:

• Electronic Submission: Submit all electronic public comments via the Federal e-Rulemaking Portal. Go to https://www.regulations.gov and enter NOAA-NMFS-2023-0149 in the Search box (note: copying and pasting the FDMS Docket Number directly from this document may not yield search results). Click on the “Comment” icon, complete the required fields, and enter or attach your comments.

• Mail: Submit written comments to Gretchen Harrington, Assistant Regional Administrator, Sustainable Fisheries Division, Alaska Region NMFS. Mail comments to P.O. Box 21668, Juneau, AK 99802-1668.

Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

Electronic copies of Amendment 113 to the FMP, the Environmental Assessment/Regulatory Impact Review prepared for this action (the Analysis), and the Finding of No Significant Impact prepared for this action may be obtained from www.regulations.gov and the NMFS Alaska Region website at https://www.fisheries.noaa.gov/region/alaska.

Written comments regarding the burden-hour estimates or other aspects of the collection-of-information requirements contained in this proposed rule may be submitted to NMFS at the above address and to www.reginfo.gov/public/do/PRAMain. Find this particular information collection by selecting “Currently under Review—Open for Public Comments” or by using the search function.

FOR FURTHER INFORMATION CONTACT: Joel Kraski, 907-586-7228 or joel.kraski@noaa.gov.

SUPPLEMENTARY INFORMATION: The Council submitted Amendment 113 to the FMP to the Secretary for review. If approved by the Secretary, Amendment 113 would provide increased flexibility, efficiency and add protection against unforeseen circumstances for the fishery by expanding the fishing season to harvest and land CGOA rockfish TAC in Kodiak as intended, while still maintaining the intent of the RP. Amendment 113 is intended to promote the goals and objectives of the Magnuson-Stevens Act, the FMP, and other applicable laws.

The Magnuson-Stevens Act requires that each regional fishery management council submit any fishery management plan amendment it prepares to NMFS for review and approval, disapproval, or partial approval by the Secretary. The Magnuson-Stevens Act also requires that NMFS, upon receiving a fishery management plan amendment, immediately publish a document in the Federal Register announcing that the amendment is available for public review and comment. This document announces that proposed Amendment 113 to the FMP is available for public review and comment.

The Council prepared, and the Secretary approved, the GOA FMP under the authority of section 302(h)(1) and 303(b) of the Magnuson-Stevens Act, 16 U.S.C. 1801 et seq. The FMP is implemented by Federal regulations governing U.S. fisheries at 50 CFR part 679. The Council is authorized to prepare and recommend a GOA FMP amendment for the conservation and management of a fishery covered under the GOA FMP.

The RP provides exclusive harvesting privileges for vessels using trawl gear to harvest a specific set of rockfish species and associated species incidentally harvested to those rockfish in the Central GOA, an area from 147° W long. to 159° W long. The granting of exclusive harvesting is commonly called rationalization. The rockfish primary species rationalized under the RP are northern rockfish, Pacific ocean perch, and dusky rockfish. The incidentally harvested groundfish taken in the primary rockfish fisheries and which also are rationalized under the RP are called the secondary species. The secondary species include Pacific cod, rougheye rockfish, shortraker rockfish, and sablefish. In addition to these secondary species, the RP allocates a portion of the halibut bycatch mortality limit annually specified for the GOA trawl fisheries to RP participants. The Council included the port delivery requirement to address industry concern that harvesters participating in the RP continue to deliver catch to the traditional port of Kodiak (76 FR 81248, December 27, 2011).

Use caps, or caps, are the maximum amount of a species or assemblage that may be harvested or processed by a vessel or processing plant. Cumulative changes since 2014 have impacted the CGOA fisheries, resulting in difficulties harvesting and processing the trawl CV RP cooperative quota (CQ), especially later in the season as processors approach the limit of their current processing caps or close for seasonal maintenance. Seasonal fishing activity is the driving force for the planning of vessels and processing facility staff needs. Changes since 2021 to the CGOA flatfish market, and the loss of several shoreside processing facilities in Kodiak, have created the need for additional flexibility to allow the fishery to adapt to unforeseen challenges within the fishery. These challenges could include rockfish processor shutdowns or impacts to the markets.

Seven unique Kodiak processors, each associated with a unique rockfish vessel cooperative, participated in the RP from 2012 through 2014. These rockfish cooperatives are voluntarily formed by permit harvesters and receive an exclusive harvest privilege to the groundfish species in the CGOA. One RP rockfish processor was acquired in 2014 by another RP processing company, reducing the total number of RP processors to six but leaving the number of RP cooperatives unchanged. Later, in 2018, an RP rockfish processor ceased processing and the associated RP cooperative disbanded. In 2020, a merger between RP processors, and a third RP processor deciding not to take any RP deliveries, reduced the total number to four RP processors. Processors are currently limited to processing 30 percent of the CQ. In late 2023, one of the four remaining RP processors announced the intent to sell the rockfish processing plant located in Kodiak, which may leave 10 percent of the TAC in the water.

Amendment 113 would provide additional flexibility for vessels to participate in the RP during April, and could keep RP processors fully operational, thus mitigating impacts from changes in market conditions. Since 2021, the CGOA flatfish market prices have declined, partially due to increased tariffs, negatively impacting Kodiak processors financially due to labor planning and lack of sustained deliveries to keep processing crews active. The change in season start date would likely help maintain processing capacity for other non-trawl fisheries through workforce stability, which was observed during the 2021 rockfish season under the emergency rule (86 FR 14851, March 19, 2021), which moved the season start date to April 1, 2021. Changes to RP processor use caps would remove processing cap constraints while still maintaining the Council's original intent of preventing consolidation and meeting the overall goal of prosecuting this fishery in a sustainable and efficient manner. These changes to the regulations would provide additional opportunity for the TACs for the primary rockfish and other allocated species to be fully harvested, as indicated by the Council's purpose and need statement.

NMFS is soliciting public comments on proposed Amendment 113 through the end of the comment period (see DATES). NMFS intends to publish in the Federal Register and seek public comment on a proposed rule that would implement Amendment 113 following NMFS's evaluation of the proposed rule under the Magnuson-Stevens Act.

Respondents do not need to submit the same comments on Amendment 113 and the proposed rule. All relevant written comments received by the end of the applicable comment period, whether specifically directed to the FMP amendment or the proposed rule, will be considered by NMFS in the approval/disapproval decision for Amendment 113 and addressed in the response to comments in the final rule. Comments received after that date may not be considered in the approval/disapproval decision on Amendment 113. To be certain of consideration, comments must be received, not just postmarked or otherwise transmitted, by the last day of the comment period (see DATES).

Authority: 16 U.S.C. 1801 et seq.

Dated: March 29, 2024.
Everett Wayne Baxter,
Acting Director, Office of Sustainable Fisheries, National Marine Fisheries Service.

[FR Doc. 2024-07115 Filed 4-3-24; 8:45 am]

BILLING CODE 3510-22-P